DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than April 24, 2006.

Interested persons are invited to submit written comments regarding the subject matter of the investigations to the Director, Division of Trade Adjustment Assistance, at the address shown below, not later than April 24, 2006.

The petitions filed in this case are available for inspection at the Office of the Director, Division of Trade Adjustment Assistance, Employment and Training Administration, U.S. Department of Labor, Room C-5311, 200 Constitution Avenue, NW., Washington, DC 20210.

Signed at Washington, DC this 30th day of March 2006.
Erica R. Cantor,
Director, Division of Trade Adjustment Assistance.

Appendix
[TAA petitions instituted between 3/13/06 and 3/24/06]
TA-W | Subject firm (petitioners) | Location | Date of institution | Date of petition
58996 | EneFco (Comp) | Auburn, ME | 03/13/06 | 03/01/06
58997 | Weyerhaeuser Corp. (Wkrs) | Bedford Heights, OH | 03/13/06 | 03/10/06
58998 | Action Apparel, Inc. (Comp) | Ramer, TN | 03/13/06 | 03/10/06
58999 | Kelly Services (State) | Boulder, CO | 03/13/06 | 03/08/06
59000 | Kelly Scientific (State) | Westminster, CO | 03/13/06 | 03/08/06
59001 | Corestaff (State) | Boulder, CO | 03/13/06 | 03/08/06
59002 | Visa Jewelry Corporation (Comp) | Central Falls, RI | 03/13/06 | 03/01/06
59003 | Wonder Color Corporation, Inc. (Wkrs) | Vermilion, OH | 03/13/06 | 03/10/06
59004 | Acco Chain and Lifting Products (Union) | York, PA | 03/13/06 | 03/07/06
59005 | Leggett and Platt (Union) | York, PA | 03/13/06 | 03/07/06
59006 | Spherion (State) | Rochester, MN | 03/13/06 | 03/10/06
59007 | Professional Distribution Services, Inc. (Comp) | Martinsville, VA | 03/13/06 | 03/10/06
59008 | Mr. LongArm, Inc. (State) | Greenwood, MO | 03/13/06 | 03/10/06
59009 | Phillips Van Heusen Corporation (Comp) | Ozark, AL | 03/13/06 | 03/10/06
59010 | Foamex (Comp) | Corry, PA | 03/13/06 | 03/13/06
59011 | Racequip, Inc. (Comp) | Columbus, OH | 03/13/06 | 03/13/06
59012 | Reitz Tool, Inc. (Comp) | Cochranton, PA | 03/13/06 | 03/13/06
59013 | Conopco, Inc., dba Unilever (Comp) | Asheboro, NC | 03/13/06 | 03/13/06
59014 | Invista S.A.R.L. (Comp) | Athens, GA | 03/14/06 | 03/10/06
59015 | King Bros Industries (State) | Valencia, CA | 03/14/06 | 03/13/06
59016 | Harve Benard (Union) | Clifton, NJ | 03/14/06 | 03/13/06
59017 | Ford Motor Company Atlanta Assembly (Wkrs) | Hapeville, GA | 03/14/06 | 03/13/06
59018 | Touch Flo Manufacturing (State) | Burbank, CA | 03/14/06 | 03/13/06
59019 | McCormick International USA, Inc. (State) | Pella, IA | 03/14/06 | 03/13/06
59020 | Sony Electronics, Inc. (State) | San Diego, CA | 03/14/06 | 03/08/06
59021 | 3M Precision Optics (Wkrs) | Cincinnati, OH | 03/14/06 | 03/03/06
59022 | Lithonia Lighting (Wkrs) | Berkeley, CA | 03/14/06 | 03/03/06
59023 | Ralph Barrow Automobiles (Wkrs) | Eden, NC | 03/14/06 | 02/16/06
59024 | Agilent Technologies, GIO (Wkrs) | Palo Alto, CA | 03/14/06 | 02/17/06
59025 | Bauhaus USA (Wkrs) | Amory, MS | 03/14/06 | 02/21/06
59026 | Oxford Foods, Inc. (Wkrs) | South Deerfield, MA | 03/14/06 | 03/02/06
59027 | Kappler (Wkrs) | Guntersville, AL | 03/14/06 | 02/26/06
59028 | General Electric (Comp) | Hebron, OH | 03/14/06 | 02/28/06
59029 | American and Efird, Inc. (Wkrs) | Gastonia, NC | 03/14/06 | 02/20/06
59030 | Amital Spinning Corp. (Comp) | New Barn, NC | 03/14/06 | 03/14/06
59031 | Fraser Papers L.L.C. (USW) | Berlin, NH | 03/15/06 | 03/14/06
59032 | Colson Caster Corp. (State) | Jonesboro, AR | 03/15/06 | 03/14/06
59033 | BroadBus Technology (Union) | Boxborough, MA | 03/15/06 | 03/14/06
59034 | ExxonMobil Chemical Co. (Wkrs) | Macedon, NY | 03/15/06 | 03/06/06
59035 | Newstech PA, LP (Comp) | Northampton, PA | 03/15/06 | 03/07/06
59036 | Collins and Aikman (Co.) | El Paso, TX | 03/16/06 | 03/15/06
59037 | Delta Airlines (Wkrs) | Atlanta, GA | 03/16/06 | 03/07/06
59038 | Shure Electronics (Wkrs) | Douglas, AZ | 03/16/06 | 03/09/06
59039 | Nortel (Wkrs) | Research Triangle Park, NC | 03/16/06 | 02/17/06
59040 | AH Schreiber Company (Co.) | Bristol, VA | 03/16/06 | 03/15/06
59041 | Kidde Fire Fighting (Co.) | Ranson, WV | 03/16/06 | 03/14/06
59042 | PF Papers (USW) | Park Falls, WI | 03/16/06 | 03/14/06
59043 | PTX Pentronix, Inc. (Co.) | Lincoln Park, MI | 03/16/06 | 03/07/06
59044 | Spencer's, Inc. (Co.) | Mt. Airy, NC | 03/16/06 | 03/15/96
59045 | Newstech NY (Co.) | Newton Falls, NY | 03/16/06 | 03/16/06
59046 | GE—Aviation Engine Services (Co.) | Ontario, CA | 03/16/06 | 03/06/06
59047 | Bluementhal Mills (Wkrs) | Marion, SC | 03/16/06 | 03/01/06
59048 | National Beding Co. (Wkrs) | Linden, NJ | 03/16/06 | 03/01/06
59049 | Arlee Home Fashions (Wkrs) | West Plains, MO | 03/17/06 | 03/15/06
59050 | Wise Industries (Wkrs) | Kings Mountain, NC | 03/17/06 | 03/13/06
59051 | EIC Corporation (State) | Santa Clara, CA | 03/17/06 | 03/16/06
59052 | Array Hartland (Co.) | Hartland, WI | 03/17/06 | 03/07/06
59053 | Sebastian Furniture, Inc. (Wrks) | Barling, AR | 03/17/06 | 03/15/06
59054 | Epson Portland, Inc. (Wrks) | Hillsboro, OR | 03/17/06 | 03/14/06
59055 | New England Confectionery Company (NECCO) (State) | Revere, MA | 03/17/06 | 04/16/06
59056 | Lolly Togs Ltd (Wrks) | Greensboro, NC | 03/17/06 | 03/16/06
59057 | Hickory Hardware (Comp) | Grandville, MI | 03/17/06 | 03/17/06
59058 | Jeffco Enterprises (State) | Hildebran, NC | 03/20/06 | 03/17/06
59059 | Flex-n-Gate Oklahoma (Union) | Ada, OK | 03/20/06 | 03/17/06
59060 | Lollytogs Ltd. (Wkrs) | Greensboro, NC | 03/20/06 | 03/16/06
59061 | Brake Parts, Inc. (Comp) | McHenry, IL | 03/20/06 | 03/20/06
59062 | Machined Products (Comp) | Lancaster, PA | 03/20/06 | 03/12/06
59063 | McLeod USA Telecommunications Services, Inc. (Comp) | Springfield, MO | 03/20/06 | 03/15/06
59064 | Gerber Legendary Blades (Comp) | Portland, OR | 03/20/06 | 03/16/06
59065 | Paris Accessories—Walnutport (UNITE) | Walnutport, PA | 03/21/06 | 03/21/06
59066 | Maine Neurology (State) | Scarborough, ME | 03/21/06 | 03/17/06
59067 | Coe Manufacturing (Wkrs) | Tigard, OR | 03/22/06 | 03/21/06
59068 | Federal Mogul Corporation (State) | Malden, MO | 03/22/06 | 03/21/06
59069 | Renee's Manufacturing, Inc. (State) | San Francisco, CA | 03/22/06 | 03/21/06
59070 | Tate Lumber Co., Inc. (Wkrs) | Red Oak, VA | 03/22/06 | 03/21/06
59071 | GrafTech International, Ltd. (Comp) | Wilmington, DE | 03/22/06 | 03/21/06
59072 | Point Technologies (State) | Boulder, CO | 03/22/06 | 03/21/06
59073 | Interkordsa-USA, Inc. (Wkrs) | Whiteville, NC | 03/22/06 | 02/27/06
59074 | Western Graphics Corporation (Comp) | Eugene, OR | 03/23/06 | 03/21/06
59075 | Kolpin Manufacturing (Wkrs) | Fox Lake, WI | 03/23/06 | 03/22/06
59076 | Technicolor Universal (State) | Pinckneyville, IL | 03/23/06 | 03/22/06
59077 | Greatbatch-Sierra, Inc. (Comp) | Carson City, NV | 03/23/06 | 03/22/06
59078 | Hexion Specialty Chemical (Wkrs) | High Point, NC | 03/23/06 | 03/22/06
59079 | Warren Industries (Comp) | Lafayette, IN | 03/23/06 | 03/22/06
59080 | Tech Sew Manufacturing (Wkrs) | New York, NY | 03/23/06 | 03/16/06
59081 | CFM Home Products (Comp) | Joplin, MO | 03/23/06 | 03/17/06
59082 | Trinity Pottery, Inc. (Comp) | Rice Lake, WI | 03/23/06 | 03/21/06
59083 | TI Automotive Systems (Comp) | Warren, MI | 03/24/06 | 03/24/06
59084 | Lady Ester Lingerie Corp. (Comp) | New York, NY | 03/24/06 | 03/24/06

[FR Doc. E6-5373 Filed 4-11-06; 8:45 am]

BILLING CODE 4510-30-P